DEPARTMENT OF COMMERCE

International Trade Administration

[C-533-907]

Sodium Nitrite From India: Postponement of Preliminary Determination in the Countervailing Duty Investigation

AGENCY: Enforcement and Compliance, International Trade Administration, Department of Commerce.

DATES: Applicable March 18, 2022.

FOR FURTHER INFORMATION CONTACT: Eva Kim, AD/CVD Operations, Office IV, Enforcement and Compliance, International Trade Administration, U.S. Department of Commerce, 1401 Constitution Avenue NW, Washington, DC 20230, telephone: (202) 482-8283.

SUPPLEMENTARY INFORMATION:

Background

On February 8, 2022, the Department of Commerce (Commerce) published the initiation of countervailing duty (CVD) investigations of imports of sodium nitrite from India and Russia.¹ Currently, the preliminary determinations are due no later than April 8, 2022.

¹ See Sodium Nitrite from India and the Russian Federation: Initiation of Countervailing Duty Investigations, 87 FR 7108 (February 8, 2022).

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Chemtrade Chemicals US, LLC.

On March 14, 2022, the petitioner submitted a timely request that Commerce postpone the preliminary CVD determination of sodium nitrite from India.³ The petitioner requested postponement due to the complexity of this investigation and posited that more time is needed for Commerce to conduct a complete and thorough analysis.⁴ The petitioner noted that it “identified twenty-one different subsidy programs that potentially benefit the mandatory respondent, Deepak Nitrite Limited,” and that Commerce's preliminary determination is currently due on April 8, 2022,⁵ “which is just two weeks after the current deadline for complete initial responses to Sections II and III of Commerce's questionnaires.” ⁶ In accordance with 19 CFR 351.205(e), the petitioner has stated its reasons for requesting a postponement of the preliminary determination, and Commerce finds no compelling reason to deny the request. Therefore, in accordance with section 703(c)(1)(A) of the Act, Commerce is postponing the deadline for the preliminary determination to no later than 130 days after the date on which this investigation was initiated, i.e., June 13, 2022.⁷ Pursuant to section 705(a)(1) of the Act and 19 CFR 351.210(b)(1), the deadline for the final determination of this investigation will continue to be 75 days after the date of the preliminary determination.

³ See Petitioner's Letter, “Sodium Nitrite from India: Request for Extension of the Preliminary Determination of the Countervailing Duty Investigation,” dated March 14, 2022.

⁴ Id.

⁵ See 19 CFR 351.205(b)(1) (explaining that the preliminary countervailing duty determination is due 65 days after the date of initiation). This investigation was initiated on February 2, 2022.

⁶ Id.

⁷ Postponing the preliminary determination to 130 days after initiation would place the deadline on Sunday, June 12, 2022. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: March 14, 2022.
Lisa W. Wang,
Assistant Secretary for Enforcement and Compliance.

[FR Doc. 2022-05724 Filed 3-17-22; 8:45 am]

BILLING CODE 3510-DS-P